ENVIRONMENTAL PROTECTION AGENCY

40 CFR Part 55

[EPA-R04-OAR-2008-0605; FRL-8745-8]

Outer Continental Shelf Air Regulations Consistency Update for Florida

AGENCY: Environmental Protection Agency (EPA).

ACTION: Final rule-consistency update.

SUMMARY: EPA is finalizing the update of the Outer Continental Shelf (OCS) Air Regulations proposed in the Federal Register on September 4, 2008. Requirements applying to OCS sources located within 25 miles of states' seaward boundaries must be updated periodically to remain consistent with the requirements of the corresponding onshore area (COA), as mandated by section 328(a)(1) of the Clean Air Act (“CAA” or “the Act”). The portion of the OCS air regulations that is being updated pertains to the requirements for OCS sources for which the State of Florida has been designated COA. The effect of approving the OCS requirements for the State of Florida is to regulate emissions from OCS sources in accordance with the requirements onshore. The change to the existing requirements discussed below will be incorporated by reference into the Code of Federal Regulations (CFR) and is listed in the appendix to the OCS air regulations. This action is an annual update of the Florida's OCS Air Regulations. These rules include revisions to existing rules that already apply to OCS sources. No comments were received on the September 4, 2008, proposal.

DATES: Effective Date: This rule is effective on January 21, 2009. The incorporation by reference of certain publications listed in this rule is approved by the Director of the Federal Register as of January 21, 2009.

ADDRESSES: EPA has established docket number EPA-R04-OAR-2008-0605 for this action. All documents in the docket are listed on the http://www.regulations.gov Web site. Although listed in the index, some information is not publicly available, i.e., CBI or other information whose disclosure is restricted by statute. Certain other material, such as copyrighted material, is not placed on the Internet and will be publicly available only in hard copy form. Publicly available docket materials are available either electronically through http://www.regulations.gov or in hard copy at the Air Permit Section, Air Planning Branch, Air, Pesticides and Toxics Management Division, U.S. Environmental Protection Agency, Region 4, 61 Forsyth Street, SW., Atlanta, Georgia 30303-8960. EPA requests that if at all possible, you contact the contact listed in the FOR FURTHER INFORMATION CONTACT section to schedule your inspection. The Regional Office's official hours of business are Monday through Friday, 8:30 to 4:30, excluding federal holidays.

FOR FURTHER INFORMATION CONTACT: Sean Lakeman, Air Permit Section, Air Planning Branch, Air, Pesticides and Toxics Management Division, U.S. Environmental Protection Agency, Region 4, 61 Forsyth Street, SW., Atlanta, Georgia 30303-8960. The telephone number is (404) 562-9043. Mr. Lakeman can also be reached via electronic mail at lakeman.sean@epa.gov.

SUPPLEMENTARY INFORMATION: Throughout this document whenever “we,” “us,” or “our” is used, we mean EPA. The following outline is provided to aid in locating information in this preamble.

I. Background and Purpose

II. EPA Action

III. Statutory and Executive Order Reviews

I. Background and Purpose

On September 4, 1992, EPA promulgated 40 CFR part 55, which established requirements to control air pollution from OCS sources in order to attain and maintain federal and state ambient air quality standards and to comply with the provisions of part C of title I of the Act. Part 55 applies to all OCS sources offshore of the states except those located in the Gulf of Mexico west of 87.5 degrees longitude. Section 328 of the Act requires that for such sources located within 25 miles of a state's seaward boundary, the requirements shall be the same as would be applicable if the sources were located in the COA. Because the OCS requirements are based on onshore requirements, and onshore requirements may change, section 328(a)(1) of the Act requires that EPA update the OCS requirements as necessary to maintain consistency with onshore requirements.

Section 328(a) of the Act requires that EPA establish requirements to control air pollution from OCS sources located within 25 miles of states' seaward boundaries that are the same as onshore requirements. To comply with this statutory mandate, EPA must incorporate applicable onshore rules into part 55 as they exist onshore. This process is distinct from the State Implementation Plan (SIP) process and incorporation of a rule into part 55 as part of the OCS consistency update process does not ensure such a rule would be appropriate for inclusion into the SIP. EPA proposed approval of Florida's rules for OCS consistency update on September 4, 2008 (73 FR 51610), and received no comments.

II. EPA Action

In this document, EPA takes final action to incorporate the proposed changes into 40 CFR part 55. No changes were made to the proposed action. EPA is approving the proposed action under section 328(a)(1) of the Act, 42 U.S.C. 7627. Section 328(a) of the Act requires that EPA establish requirements to control air pollution from OCS sources located within 25 miles of states' seaward boundaries that are the same as onshore requirements. To comply with this statutory mandate, EPA must incorporate applicable onshore rules into part 55 as they exist onshore.

III. Statutory and Executive Order Reviews

Under the CAA, the Administrator is required to establish requirements to control air pollution from OCS sources located within 25 miles of States' seaward boundaries that are the same as onshore air control requirements. To comply with this statutory mandate, EPA must incorporate applicable onshore rules into part 55 as they exist onshore. 42 U.S.C. 7627(a)(1); 40 CFR 55.12. Thus, in promulgating OCS consistency updates, EPA's role is to maintain consistency between OCS regulations and the regulations of onshore areas, provided that they meet the criteria of the CAA. Accordingly, this action simply updates the existing OCS requirements to make them consistent with requirements onshore, without the exercise of any policy discretion by EPA. For that reason, this action:

(1) Is not a “significant regulatory action” subject to review by the Office of Management and Budget (OMB) under Executive Order 12866 (58 FR 51735, October 4, 1993);

(2) Is certified as not having a significant economic impact on a substantial number of small entities under the Regulatory Flexibility Act (5 U.S.C. 601 et seq.);

(3) Does not contain any unfunded mandate or significantly or uniquely affect small governments, as described in the Unfunded Mandates Reform Act of 1995 (Pub. L. 104-4);

(4) Does not have Federalism implications as specified in Executive Order 13132 (64 FR 43255, August 10, 1999);

(5) Is not an economically significant regulatory action based on health or safety risks subject to Executive Order 13045 (62 FR 19885, April 23, 1997);

(6) Is not a significant regulatory action subject to Executive Order 13211 (66 FR 28355, May 22, 2001);

(7) Is not subject to requirements of section 12(d) of the National Technology Transfer and Advancement Act of 1995 (15 U.S.C. 272 note) because application of those requirements would be inconsistent with the CAA; and

(8) Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because it does not have a substantial direct effect on one or more Indian tribes, on the relationship between the Federal Government and Indian tribes, or on the distribution of power and responsibilities between the Federal Government and Indian tribes, nor does it impose substantial direct compliance costs on tribal governments, nor preempt tribal law.

Under the provisions of the Paperwork Reduction Act, 44 U.S.C. 3501 et seq., OMB has approved the information collection requirements contained in 40 CFR part 55 and, by extension, this update to the rules, and has assigned OMB control number 2060-0249. Notice of OMB's approval of EPA Information Collection Request (“ICR”) No. 1601.06 was published in the Federal Register on March 1, 2006 (71 FR 10499-10500). The approval expires January 31, 2009. As EPA previously indicated (70 FR 65897-65898 (November 1, 2005)), the annual public reporting and recordkeeping burden for collection of information under 40 CFR part 55 is estimated to average 549 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

An agency may not conduct or sponsor, and a person is not required to respond to, a collection of information unless it displays a currently valid OMB control number. The OMB control numbers for EPA's regulations in 40 CFR are listed in 40 CFR part 9 and are identified on the form and/or instrument, if applicable. In addition, the table in 40 CFR part 9 of currently approved OMB control numbers for various regulations lists the regulatory citations for the information requirements contained in 40 CFR part 55.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by November 17, 2008. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 55

Environmental protection, Administrative practice and procedure, Air pollution control, Continental Shelf, Incorporation by reference, Intergovernmental relations, Nitrogen dioxide, Ozone, Particulate matter, Reporting and recordkeeping requirements, Sulfur oxides.

Dated: November 14, 2008.
Russell L. Wright, Jr.,
Acting Regional Administrator, Region 4.

40 CFR part 55 is amended as follows:

PART 55—[AMENDED]

1. The authority citation for part 55 continues to read as follows:

Authority: Section 328 of the Act (42 U.S.C. 7401, et seq.) as amended by Public Law 101-549.

2. Section 55.14 is amended as follows:

a. In paragraph (e) introductory text by removing the words “345 Courtland Street, NE., Atlanta, GA 30365;” and adding in their place the words “61 Forsyth Street, Atlanta, GA 30303”.

b. By revising paragraph (e)(6)(i)(A).

§ 55.14 Requirements that apply to OCS sources located within 25 miles of States' seaward boundaries, by State.

* * * * *

(e) * * *

(6) * * *

(i) * * *

(A) State of Florida Requirements Applicable to OCS Sources, January 2, 2008.

* * * * *

3. Appendix A to part 55 is amended under the heading “Florida” by adding a new paragraph (a) immediately following the heading and revising paragraph (1) to read as follows:

Appendix A to Part 55—Listing of State and Local Requirements Incorporated by Reference Into Part 55, by State

* * * * *

Florida

(a) State requirements.

(1) The following requirements are contained in State of Florida Requirements Applicable to OCS Sources, January 2, 2008: Florida Administrative Code—Department of Environmental Protection. The following sections of Chapter 62:

CHAPTER 62-4 PERMITS

62-4.001 Scope of Part I (Effective 10/1/07)

62-4.020 Definitions (Effective 4/3/03)

62-4.021 Transferability of Definitions (Effective 8/31/88)

62-4.030 General Prohibition (Effective 8/31/88)

62-4.040 Exemptions (Effective 8/31/88)

62-4.050 Procedure to Obtain Permits and other Authorizations; Applications (Effective 10/31/07)

62-4.055 Permit Processing (Effective 8/16/98)

62-4.060 Consultation (Effective 8/31/88)

62-4.070 Standards of Issuing or Denying Permits; Issuance; Denial (Effective 3/28/91)

62-4.080 Modification of Permit Conditions (Effective 3/19/90)

62-4.090 Renewals (Effective 3/16/08)

62-4.100 Suspension and Revocation (Effective 8/31/88)

62-4.110 Financial Responsibility (Effective 8/31/88)

62-4.120 Transfer of Permits (Effective 4/16/01)

62-4.130 Plant Operation—Problems (Effective 8/31/88)

62-4.150 Review (Effective 8/31/88)

62-4.160 Permit Conditions (Effective 7/11/93)

62-4.200 Scope of Part II (Effective 10/1/07)

62-4.210 Construction Permits (Effective 8/31/88)

62-4.220 Operation Permit for New Sources (Effective 8/31/88)

62-4.249 Preservation of Rights (Effective 8/31/88)

62-4.510 Scope of Part III (Effective 10/1/07)

62-4.520 Definition (Effective 7/11/90)

62-4.530 Procedures (Effective 3/19/90)

62-4.540 General Conditions for All General Permits (Effective 8/31/88)

CHAPTER 62-204 AIR POLLUTION CONTROL—GENERAL PROVISIONS

62-204.100 Purpose and Scope (Effective 3/13/96)

62-204.200 Definitions (Effective 2/12/06)

62-204.220 Ambient Air Quality Protection (Effective 3/13/96)

62-204.240 Ambient Air Quality Standards (Effective 3/13/96)

62-204.260 Prevention of Significant Deterioration Maximum Allowable Increases (PSD Increments) (Effective 2/12/06)

62-204.320 Procedures for Designation and Redesignation of Areas (Effective 3/13/96)

62-204.340 Designation of Attainment, Nonattainment, and Maintenance Areas (Effective 3/13/96)

62-204.360 Designation of Prevention of Significant Deterioration Areas (Effective 3/13/96)

62-204.400 Public Notice and Hearing Requirements for State Implementation Plan Revisions (Effective 11/30/94)

62-204.500 Conformity (Effective 9/1/98)

62-204.800 Federal Regulations Effective by Reference (Effective 7/1/08)

CHAPTER 62-210 STATIONARY SOURCES—GENERAL REQUIREMENTS

62-210.100 Purpose and Scope (Effective 1/10/07)

62-210.200 Definitions (Effective 3/16/08)

62-210.220 Small Business Assistance Program (Effective 2/11/99)

62-210.300 Permits Required (Effective 3/16/08)

62-210.310 Air General Permits (Effective 5/9/07)

62-210.350 Public Notice and Comment (Effective 2/2/06)

62-210.360 Administrative Permit Corrections (Effective 3/16/08)

62-210.370 Emissions Computation and Reporting (Effective 7/3/08)

62-210.550 Stack Height Policy (Effective 11/23/94)

62-210.650 Circumvention (Effective 8/26/1981)

62-210.700 Excess Emissions (Effective 11/23/94)

62-210.900 Forms and Instructions (Effective 7/3/08)

62-210.920 Registration Forms for Air General Permits (Effective 5/9/07)

CHAPTER 62-212 STATIONARY SOURCES—PRECONSTRUCTION REVIEW

62-212.100 Purpose and Scope (Effective5/20/97)

62-212.300 General Preconstruction Review Requirements (Effective 2/2/06)

62-212.400 Prevention of Significant Deterioration (PSD) (Effective 7/16/07)

62-212.500 Preconstruction Review for Nonattainment Areas (Effective 2/2/06)

62-212.600 Sulfur Storage and Handling Facilities (Effective 8/17/00)

62-212.710 Air Emissions Bubble (Effective 5/20/97)

62-212.720 Actuals Plantwide Applicability Limits (PALs) (Effective 7/16/07)

CHAPTER 62-213 OPERATION PERMITS FOR MAJOR SOURCES OF AIR POLLUTION

62-213.100 Purpose and Scope (Effective 3/13/96)

62-213.202 Responsible Official (Effective 6/02/02)

62-213.205 Annual Emissions Fee (Effective 3/16/08)

62-213.300 Title V Air General Permits (Effective 4/14/03)

62-213.400 Permits and Permit Revisions Required (Effective 3/16/08)

62-213.405 Concurrent Processing of Permit Applications (Effective 6/02/02)

62-213.410 Changes Without Permit Revision (Effective 6/02/02)

62-213.412 Immediate Implementation Pending Revision Process (Effective 6/02/02)

62-213.413 Fast-Track Revisions of Acid Rain Parts (Effective 6/02/02)

62-213.415 Trading of Emissions Within a Source (Effective 4/16/01)

62-213.420 Permit Applications (Effective 3/16/08)

62-213.430 Permit Issuance, Renewal, and Revision (Effective 3/16/08)

62-213.440 Permit Content (Effective 3/16/08)

62-213.450 Permit Review by EPA and Affected States (Effective 1/03/01)

62-213.460 Permit Shield (Effective 3/16/08)

62-213.900 Forms and Instructions (Effective 4/14/03)

CHAPTER 62-214 REQUIREMENTS FOR SOURCES SUBJECT TO THE FEDERAL ACID RAIN PROGRAM

62-214.100 Purpose and Scope (Effective 3/16/08)

62-214.300 Applicability (Effective 3/16/08)

62-214.320 Applications (Effective 3/16/08)

62-214.330 Acid Rain Compliance Plan and Compliance Options (Effective 3/16/08)

62-214.340 Exemptions (Effective 3/16/08)

62-214.350 Certification (Effective 12/10/97)

62-214.360 Department Action on Applications (Effective 3/16/08)

62-214.370 Revisions and Administrative Corrections (Effective 4/16/01)

62-214.420 Acid Rain Part Content (Effective 3/16/08)

62-214.430 Implementation and Termination of Compliance Options (Effective 3/16/08)

CHAPTER 62-252 GASOLINE VAPOR CONTROL

62-252.100 Purpose and Scope (Effective 2/2/93)

62-252.200 Definitions (Effective 5/9/07)

62-252.300 Gasoline Dispensing Facilities—Stage I Vapor Recovery (Effective 5/9/07)

62-252.400 Gasoline Dispensing Facilities—Stage II Vapor Recovery (Effective 5/9/07)

62-252.500 Gasoline Tanker Trucks or Trailers (Effective 5/9/07)

62-252.900 Form. (Effective 5/9/07)

CHAPTER 62-256 OPEN BURNING AND FROST PROTECTION FIRES

62-256.200 Definitions (Effective 7/6/05)

62-256.300 Prohibitions (Effective 7/6/05)

62-256.700 Open Burning Allowed (Effective 7/6/05)

CHAPTER 62-296 STATIONARY SOURCES-EMISSION STANDARDS

62-296.100 Purpose and Scope (Effective 3/13/96)

62-296.320 General Pollutant Emission Limiting Standards (Effective 3/13/96)

62-296.340 Best Available Retrofit Technology (Effective 1/31/07)

62-296.341 Regional Haze—Reasonable Progress Control Technology (Effective 2/7/08)

62-296.401 Incinerators (Effective 1/10/07)

62-296.402 Sulfuric Acid Plants (Effective 3/13/96)

62-296.403 Phosphate Processing (Effective 3/13/96)

62-296.404 Kraft (Sulfate) Pulp Mills and Tall Oil Plants (Effective 3/13/96)

62-296.405 Fossil Fuel Steam Generators with More Than 250 Million Btu Per Hour Heat Input (Effective 3/2/99)

62-296.406 Fossil Fuel Steam Generators with Less Than 250 Million Btu Per Hour Heat Input, New and Existing Emissions Units (Effective 3/2/99)

62-296.407 Portland Cement Plants (Effective 1/1/96)

62-296.408 Nitric Acid Plants (Effective 1/1/96)

62-296.409 Sulfur Recovery Plants (Effective 1/1/96)

62-296.410 Carbonaceous Fuel Burning Equipment (Effective 1/1/96)

62-296.411 Sulfur Storage and Handling Facilities (Effective 1/1/96)

62-296.412 Dry Cleaning Facilities (Effective 10/7/96)

62-296.413 Synthetic Organic Fiber Production (Effective 2/12/06)

62-296.414 Concrete Batching Plants (Effective 1/10/07)

62-296.415 Soil Thermal Treatment Facilities (Effective 3/13/96)

62-296.416 Waste-to-Energy Facilities (Effective 10/20/96)

62-296.417 Volume Reduction, Mercury Recovery and Mercury Reclamation (Effective 3/2/99)

62-296.418 Bulk Gasoline Plants (Effective 5/9/07)

62-296.470 Implementation of Federal Clean Air Interstate Rule (Effective 4/1/07)

62-296.480 Implementation of Federal Clean Air Mercury Rule (Effective 9/6/06)

62-296.500 Reasonably Available Control Technology (RACT)—Volatile Organic Compounds (VOC) and Nitrogen Oxides (NOX) Emitting Facilities (Effective 1/1/96)

62-296.501 Can Coating (Effective 1/1/96)

62-296.502 Coil Coating (Effective 1/1/96)

62-296.503 Paper Coating (Effective 1/1/96)

62-296.504 Fabric and Vinyl Coating (Effective 1/1/96)

62-296.505 Metal Furniture Coating (Effective 1/1/96)

62-296.506 Surface Coating of Large Appliances (Effective 1/1/96)

62-296.507 Magnet Wire Coating (Effective 1/1/96)

62-296.508 Petroleum Liquid Storage (Effective 1/1/96)

62-296.510 Bulk Gasoline Terminals (Effective 1/1/96)

62-296.511 Solvent Metal Cleaning (Effective 10/7/96)

62-296.512 Cutback Asphalt (Effective 1/1/96)

62-296.513 Surface Coating of Miscellaneous Metal Parts and Products (Effective 1/1/96)

62-296.514 Surface Coating of Flat Wood Paneling (Effective 1/1/96)

62-296.515 Graphic Arts Systems (Effective 1/1/96)

62-296.516 Petroleum Liquid Storage Tanks with External Floating Roofs (Effective 1/1/96)

62-296.570 Reasonably Available Control Technology (RACT)—Requirements for Major VOC and NOX-Emitting Facilities (Effective 3/2/99)

62-296.600 Reasonably Available Control Technology (RACT) Lead (Effective 3/13/96)

62-296.601 Lead Processing Operations in General (Effective 1/1/96)

62-296.602 Primary Lead-Acid Battery Manufacturing Operations (Effective 3/13/96)

62-296.603 Secondary Lead Smelting Operations (Effective 1/1/96)

62-296.604 Electric Arc Furnace Equipped Secondary Steel Manufacturing Operations. (Effective 1/1/96)

62-296.605 Lead Oxide Handling Operations (Effective 8/8/1994)

62-296.700 Reasonably Available Control Technology (RACT) Particulate Matter (Effective 1/1/96)

62-296.701 Portland Cement Plants (Effective 1/1/96)

62-296.702 Fossil Fuel Steam Generators (Effective 1/1/96)

62-296.703 Carbonaceous Fuel Burners (Effective 1/1/96)

62-296.704 Asphalt Concrete Plants (Effective 1/1/96)

62-296.705 Phosphate Processing Operations (Effective 1/1/96)

62-296.706 Glass Manufacturing Process (Effective 1/1/96)

62-296.707 Electric Arc Furnaces (Effective 1/1/96)

62-296.708 Sweat or Pot Furnaces (Effective 1/1/96)

62-296.709 Lime Kilns (Effective 1/1/96)

62-296.710 Smelt Dissolving Tanks (Effective 1/1/96)

62-296.711 Materials Handling, Sizing, Screening, Crushing and Grinding Operations (Effective 1/1/96)

62-296.712 Miscellaneous Manufacturing Process Operations (Effective 1/1/96)

CHAPTER 62-297 STATIONARY SOURCE EMISSIONS MONITORING

62-297.100 Purpose and Scope (Effective 3/13/96)

62-297.310 General Compliance Test Requirements (Effective 3/2/99)

62-297.320 Standards for Persons Engaged in Visible Emissions Observations (Effective 2/12/04)

62-297.401 Compliance Test Methods (Effective 3/2/99)

62-297.440 Supplementary Test Procedures (Effective 10/22/02)

62-297.450 EPA VOC Capture Efficiency Test Procedures (Effective 3/2/99)

62-297.520 EPA Continuous Monitor Performance Specifications (Effective 3/2/99)

62-297.620 Exceptions and Approval of Alternate Procedures and Requirements (Effective 11/23/94)

* * * * *

[FR Doc. E8-30126 Filed 12-19-08; 8:45 am]

BILLING CODE 6560-50-P